NUCLEAR REGULATORY COMMISSION

10 CFR Chapter I

[NRC-2013-0263]

Unified Agenda of Federal Regulatory and Deregulatory Actions; Correction

AGENCY: Nuclear Regulatory Commission.

ACTION: Semiannual regulatory agenda; correction.

SUMMARY: The U.S. Nuclear Regulatory Commission (NRC) is correcting a notice that was published in the Federal Register, notifying the public of the availability of its semiannual regulatory agenda (the Agenda). The Agenda is a compilation of all rules on which the NRC has recently completed action or has proposed or is considering action. This action is necessary to correct an incorrect NRC Docket ID.

DATES: This correction is effective January 22, 2014.

ADDRESSES: Please refer to Docket ID NRC-2013-0263 when contacting the NRC about the availability of information regarding this document. You may access publicly-available information related to this document using any of the following methods:

• Federal Rulemaking Web site: Go to http://www.regulations.gov and search for Docket ID NRC-2013-0263. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Cindy Bladey, Chief, Rules, Announcements, and Directives Branch, Office of Administration, Nuclear Regulatory Commission, Washington, DC 20555-0001, telephone: 301-287-0949; email: Cindy.Bladey@nrc.gov.

SUPPLEMENTARY INFORMATION: The NRC is correcting the NRC Docket ID in the notice published on January 7, 2014 (79 FR 1294). In Fr. Doc. 2013-29648, on page 1294, in the heading of the notice, “NRC-2013-0076” is corrected to read “NRC-2013-0263.” On page 1294, in the first column, in the third full sentence under the ADDRESSES section, “NRC-2013-0076” is corrected to read “NRC-2013-0263.” On page 1294, in the second column, in the first full sentence under the “Accessing Information” section, “NRC-2013-0076” is corrected to read “NRC-2013-0263.” On page 1294, in the second column, in the first bullet under the “Accessing Information” section, “NRC-2013-0076” is corrected to read “NRC-2013-0263.” On page 1294, in the second column, in the first full sentence under the “Submitting Comments” section, “NRC-2013-0076” is corrected to read “NRC-2013-0263.”

Dated at Rockville, Maryland, this 16th day of January 2014.
For the Nuclear Regulatory Commission.
Cindy Bladey,
Chief, Rules, Announcements, and Directives Branch, Division of Administrative Services, Office of Administration.

[FR Doc. 2014-01155 Filed 1-21-14; 8:45 am]

BILLING CODE 7590-01-P